DEPARTMENT OF ENERGY

Federal Energy Regulatory Commission

Combined Notice of Filings #1

Take notice that the Commission received the following electric corporate filings:

Docket Numbers: EC15-88-000.

Applicants: BluCo Energy LLC, Vantage Commodities Financial Services II, LLC.

Description: Application Under Section 203 of Bluco Energy, LLC.

Filed Date: 3/6/15.

Accession Number: 20150309-5137.

Comments Due: 5 p.m. ET 3/27/15.

Docket Numbers: EC15-89-000.

Applicants: Florida Power & Light Company.

Description: Application for Approval of Acquisition of Transmission Assets Pursuant to Section 203 of the Federal Power Act and Request for Expedited Action of Florida Power & Light Company.

Filed Date: 3/9/15.

Accession Number: 20150309-5306.

Comments Due: 5 p.m. ET 3/30/15.

Docket Numbers: EC15-90-000.

Applicants: Lumens Energy Supply LLC, Aequitas Energy, Inc.

Description: Joint Application under Section 203 of the Federal Power Act of Lumens Energy Supply LLC, et. al.

Filed Date: 3/9/15.

Accession Number: 20150309-5307.

Comments Due: 5 p.m. ET 3/30/15.

Docket Numbers: EC15-91-000.

Applicants: American Transmission Company LLC.

Description: Application for Authority to Acquire Transmission Facilities Under 203 of the Federal Power Act of American Transmission Company LLC.

Filed Date: 3/9/15.

Accession Number: 20150309-5309.

Comments Due: 5 p.m. ET 3/30/15.

Take notice that the Commission received the following electric rate filings:

Docket Numbers: ER13-445-005; ER14-2823-003; ER11-4060-005; ER11-4061-005; ER10-3117-003; ER10-3115-002.

Applicants: Badger Creek Limited, Double C Generation Limited Partnership, High Sierra Limited, Kern Front Limited, Lea Power Partners, LLC, Waterside Power, L.L.C.

Description: Notice of Change in Status Badger Creek Limited, et. al.

Filed Date: 3/9/15.

Accession Number: 20150309-5325.

Comments Due: 5 p.m. ET 3/30/15.

Docket Numbers: ER14-2751-003.

Applicants: Xcel Energy Southwest Transmission Company, LLC.

Description: Formula Rate Implementation Procedures Compliance Filing of Xcel Energy Southwest Transmission Company, LLC.

Filed Date: 3/9/15.

Accession Number: 20150309-5320.

Comments Due: 5 p.m. ET 3/30/15.

Docket Numbers: ER14-2752-003.

Applicants: Xcel Energy Transmission Development Company, LLC.

Description: Formula Rate Implementation Procedures Compliance Filing of Xcel Energy Transmission Development Company, LLC.

Filed Date: 3/9/15.

Accession Number: 20150309-5319.

Comments Due: 5 p.m. ET 3/30/15.

Docket Numbers: ER15-964-001.

Applicants: Southwest Power Pool, Inc.

Description: Tariff Amendment per 35.17(b): City Utilities of Springfield Formula Rate Amended Filing to be effective 4/1/2015.

Filed Date: 3/10/15.

Accession Number: 20150310-5143.

Comments Due: 5 p.m. ET 3/31/15.

Docket Numbers: ER15-1196-000.

Applicants: Nevada Power Company.

Description: § 205(d) rate filing per 35.13(a)(2)(iii): OATT Energy Imbalance Market to be effective 5/5/2015.

Filed Date: 3/6/15.

Accession Number: 20150309-5004.

Comments Due: 5 p.m. ET 3/27/15.

Docket Numbers: ER15-1202-000.

Applicants: PJM Interconnection, L.L.C., Duquesne Light Company.

Description: § 205(d) rate filing per 35.13(a)(2)(iii): Duquesne submits revisions to OATT Att H-17A to be effective 5/8/2015.

Filed Date: 3/9/15.

Accession Number: 20150309-5275.

Comments Due: 5 p.m. ET 3/30/15.

Docket Numbers: ER15-1203-000.

Applicants: ITC Midwest LLC.

Description: § 205(d) rate filing per 35.13(a)(2)(iii): Concurrence IPL Amended Exhibits and Attachments to O&T to be effective 5/5/2015.

Filed Date: 3/9/15.

Accession Number: 20150309-5277.

Comments Due: 5 p.m. ET 3/30/15.

Docket Numbers: ER15-1204-000.

Applicants: Duke Energy Indiana, Inc.

Description: § 205(d) rate filing per 35.13(a)(2)(iii): 2015 Annual Reconciliation Filing RS 253 to be effective 7/1/2014.

Filed Date: 3/9/15.

Accession Number: 20150309-5290.

Comments Due: 5 p.m. ET 3/30/15.

Docket Numbers: ER15-1210-000.

Applicants: Midcontinent Independent System Operator, Inc., Hoosier Energy Rural Electric Cooperative.

Description: § 205(d) rate filing per 35.13(a)(2)(iii): 2015-03-10_Hoosier-SIPC RTO Adder Filing to be effective 1/6/2015.

Filed Date: 3/10/15.

Accession Number: 20150310-5061.

Comments Due: 5 p.m. ET 3/31/15.

Docket Numbers: ER15-1211-000.

Applicants: Wisconsin Public Service Corporation.

Description: § 205(d) rate filing per 35.13(a)(2)(iii): WPSC Annual PEB/PBOP Filing to be effective 4/1/2015.

Filed Date: 3/10/15.

Accession Number: 20150310-5088.

Comments Due: 5 p.m. ET 3/31/15.

Docket Numbers: ER15-1212-000.

Applicants: Southwest Power Pool, Inc.

Description: § 205(d) rate filing per 35.13(a)(2)(iii): 1876R4 Kansas Electric Power Cooperative, Inc. NITSA NOA to be effective 2/1/2015.

Filed Date: 3/10/15.

Accession Number: 20150310-5104.

Comments Due: 5 p.m. ET 3/31/15.

Docket Numbers: ER15-1213-000.

Applicants: PJM Interconnection, L.L.C.

Description: § 205(d) rate filing per 35.13(a)(2)(iii): Revisions to Attachment Q to Remove Seller Credit Provisions to be effective 5/11/2015.

Filed Date: 3/10/15.

Accession Number: 20150310-5128.

Comments Due: 5 p.m. ET 3/31/15.

Docket Numbers: ER15-1214-000.

Applicants: Midcontinent Independent System Operator, Inc.

Description: § 205(d) rate filing per 35.13(a)(2)(iii): 2015-03-10_SA 2320 GRE-NSP 1st Rev. FCA (F096) to be effective 3/11/2015.

Filed Date: 3/10/15.

Accession Number: 20150310-5131.

Comments Due: 5 p.m. ET 3/31/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2015.
Nathaniel J. Davis, Sr.,
Deputy Secretary.

[FR Doc. 2015-06133 Filed 3-17-15; 8:45 am]

BILLING CODE 6717-01-P